ENVIRONMENTAL PROTECTION AGENCY

[ER-FRL-9002-7]

Environmental Impacts Statements; Notice of Availability

Responsible Agency: Office of Federal Activities, General Information (202) 564-7146 or http://www.epa.gov/compliance/nepa/.

Weekly receipt of Environmental Impact Statements filed 04/16/2012 through 04/20/2012 pursuant to 40 CFR 1506.9.

Notice: Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA headquarters, by filing documents online and providing feedback on the process. To participate in the pilot, register at: https://cdx.epa.gov.

EIS No. 20120113, Final EIS, BPA, OR, Albany-Eugene 115 kilovolt No. 1 Transmission Line Rebuild Project, Extending from Albany Substation to the Alderwood Tap, Linn and Lane Counties OR, Review Period Ends: 05/29/2012, Contact: Douglas F. Corkran, 503-230-7646.

EIS No. 20120114, Final Supplement, USN, CA, Hunters Point (Former) Naval Shipyard Disposal and Reuse, Supplement Information on the 2000 FEIS, Implementation, City of San Francisco, San Francisco County, CA, Review Period Ends: 05/29/2012, Contact: Ronald Bochenek, 619-532-0906.

EIS No. 20120115, Final EIS, USFS, AK, Tonka Timber Sale Project, Proposed Timber Harvesting, Petersburg Ranger District, Tongass National Forest, Petersburg, AK, Review Period Ends: 05/29/2012, Contact: Jason Anderson, 907-772-3871.

EIS No. 20120116, Final EIS, USFS, SD, Vestal Project, Commercial and Non-commercial Vegetation Treatments and Prescribed Burning to Reduce Mountain Pine Beetle Risk and Fire Hazard, Hell Canyon Ranger District, Black Hills National Forest, Custer County, SD, Review Period Ends: 05/29/2012, Contact: Lynn Kolund, 605-673-4853.

EIS No. 20120117, Draft EIS, BLM, WY, Lost Creek In Situ Recovery Project, To Analyze the Site-Specific Impacts Associated with the Plan of Operations, Sweetwater County, WY, Comment Period Ends: 06/11/2012, Contact: John Russell, 307-328-4252.

EIS No. 20120118, Final EIS, FTA, CA, California High-Speed Train (HST): Merced to Fresno Section High-Speed Train, Propose to Construct, Operate, and Maintain an Electric-Powered High-Speed Train (HST), Merced, Madera, and Fresno Counties, CA, Review Period Ends: 05/29/2012, Contact: David Valenstein, 202-493-6381.

EIS No. 20120119, Final EIS, NPS, IN, Indiana Dunes National Lakeshore, White-Tailed Deer Management Plan, Implementation, Lake, Porter, LaPorte Counties, IN, Review Period Ends: 05/29/2012, Contact: Randy Knutson, 219-395-1550.

EIS No. 20120120, Draft EIS, BLM, CO, Mohave County Wind Farm Project, Application for a Right-of-Way Grant to Construct, Operate, Maintain and Decommission a Wind Powered Electrical Generation Facility, White Hills, Mohave County, CO, Comment Period Ends: 06/11/2012, Contact: Jerry Crockford, 505-360-0473.

EIS No. 20120121, Final EIS, FHWA, OR, Newberg Dundee Bypass Project, Proposal to Build a Four Lane Expressway and Reduce Congestion on OR 99W, from OR 99W/OR/8 to the top of Rex Hill, USACE 404/Removal Fill Permits, Funding, Yamhill and Washington Counties, OR, Review Period Ends: 05/29/2012, Contact: Michelle Eraut, 503-316-2559.

EIS No. 20120122, Draft Supplement, USACE, NM, Rio Grande Floodway Flood Protection Plan, San Acacia to Bosque Del Apache Unit, To Provide Higher Levels of Flood Risk Management to Floodplain Communities from San Acacia Diversion Dam Downstream to Elephant Butte Lake, Socorro County, NM, Comment Period Ends: 06/11/2012, Contact: Julie A. Alcon, 505-342-3281.

EIS No. 20120123, Final EIS, BLM, NV, Phoenix Copper Leach Project, Construction and Operation of a New Copper Beneficiation Facility, Lander County, NV, Review Period Ends: 05/29/2012, Contact: Dave Davis, 775-635-4000.

EIS No. 20120124, Final EIS, NPS, SD, South Unit—Badlands National Park, General Management Plan, Implementation, SD, Review Period Ends: 05/29/2012, Contact: Eric J. Brunnemann, 605-433-5361 .

EIS No. 20120125, Final EIS, FTA, CA, Hercules Intermodal Transit Center, Construction To Improve Access to Public Transit, Funding USACE Section 404 Permit, Contra Costa County, CA, Review Period Ends: 05/29/2012, Contact: Paul Page, 415-744-2734.

EIS No. 20120126, Draft EIS, USFS, CO, Black Mesa Vegetation Management Project, Implementation, Divide Ranger District, Rio Grande National Forest, Hinsdale and Mineral Counties, CO, Comment Period Ends: 06/11/2012, Contact: Thomas Malecek, 719-657-3321.

EIS No. 20120127, Final EIS, USFS, CA, Rubicon Trail Easement and Resource Improvement Project, Construction and Operation, Right-of-Way Grant, Eldorado National Forest, Pacific Ranger District, El Dorado County, CA, Review Period Ends: 05/29/2012, Contact: Laura Hierholzer, 530-642-5187.

Amended Notices

EIS No. 20120047, Draft EIS, BIA, WA, West Plains Casino and Mixed-Use Development Project, Approval of Gaming Development and Management, Spokane Tribe of Indians, Spokane County, WA, Comment Period Ends: 05/16/2012, Contact: Dr. B.J. Howerton, 503-231-6749. Revision to FR Notice Published 03/02/2012; Lead Agency Re-opening the Comment Period to end 05/16/2012.

EIS No. 20120104, Draft EIS, NOAA, 00, Amendment 5 to the Atlantic Herring Fishery Management Plan, Implementation, Comment Period Ends: 06/04/2012, Contact: Daniel S. Morris, 978-281-9250. Revision to FR Notice Published 04/20/2012: Change Agency Contact to Daniel S. Morris, 978-281-9250 and Correction to EIS Title.

Dated: April 24, 2012.
Aimee Hessert,
DeputyDirector, NEPA Compliance Division, Office of Federal Activities.

[FR Doc. 2012-10200 Filed 4-26-12; 8:45 am]

BILLING CODE 6560-50-P